DEPARTMENT OF VETERANS AFFAIRS

[OMB Control No. 2900-0209]

Agency Information Collection Activity Under OMB Review: Application for Work Study Allowance; Student Work-Study Agreement (Advance Payment); Extended Student Work-Study Agreement; Student Work-Study Agreement

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0209.

FOR FURTHER INFORMATION CONTACT: Danny S. Green, Enterprise Records Service (005R1B), Department of Veterans Affairs, 810 Vermont Avenue NW, Washington, DC 20420, (202) 421-1354 or email danny.green2@va.gov. Please refer to “OMB Control No. 2900-0209” in any correspondence.

SUPPLEMENTARY INFORMATION:

Authority: Section 3485 of title 38, United States Code; Section 21.4145 of title 38, Code of Federal Regulations.

Title: Application for Work-Study Allowance, Student Work-Study Agreement (Advance Pay), Extended Work-Study Agreement, Student Work-Study Agreement.

OMB Control Number: 2900-0209.

Type of Review: Revision of a currently approved collection.

Abstract: VA uses the information collected to determine the individual's eligibility for the work-study allowance, the number of hours the individual will work, the amount payable, whether the individual desires an advance payment, and whether the individual wants to extend the work-study contract.

An agency may not conduct or sponsor, and a person is not required to respond to a collection of information unless it displays a currently valid OMB control number. The Federal Register Notice with a 60-day comment period soliciting comments on this collection of information was published at 85 FR 255 on November 20, 2020, page 74489.

Affected Public: Individuals or Households.

Estimated Annual Burden: 16,031.

Estimated Average Burden per Respondent: 20 minutes.

Frequency of Response: Once Annually.

Estimated Number of Respondents: 89,817.

By direction of the Secretary.
Danny S. Green,
VA PRA Clearance Officer, Office of Quality, Performance and Risk, Department of Veterans Affairs.

[FR Doc. 2021-01838 Filed 1-27-21; 8:45 am]

BILLING CODE 8320-01-P